SECURITIES AND EXCHANGE COMMISSION

In the Matter of American Pad & Paper Co., The CattleSale Co., CHS Electronics, Inc., Cypost Corp., Gen-ID Lab Services, Inc., Global Business Information Directory, Inc., Golf Communities of America, Inc., GSL Holdings, Inc., Industrial Rubber Innovations, Inc., Instapay Systems, Inc., Midland, Inc., Orbit Brands Corp., Signal Apparel Co., Inc., and United Specialties, Inc., (n/k/a WaterColor Holdings, Inc.) File No. 500-1; Order of Suspension of Trading

July 20, 2007.

It appears to the Securities and Exchange Commission that there is a lack of current and accurate information concerning the securities of American Pad & Paper Co. because it has not filed any periodic reports since the period ended March 31, 2000.

It appears to the Securities and Exchange Commission that there is a lack of current and accurate information concerning the securities of The CattleSale Co. because it has not filed any periodic reports since the period ended September 30, 2004.

It appears to the Securities and Exchange Commission that there is a lack of current and accurate information concerning the securities of CHS Electronics, Inc. because it has not filed any periodic reports since the period ended September 30, 1999.

It appears to the Securities and Exchange Commission that there is a lack of current and accurate information concerning the securities of Cypost Corp. because it has not filed any periodic reports since the period ended March 31, 2003.

It appears to the Securities and Exchange Commission that there is a lack of current and accurate information concerning the securities of Gen-ID Lab Services, Inc. because it has not filed any periodic reports since the period ended September 30, 1998.

It appears to the Securities and Exchange Commission that there is a lack of current and accurate information concerning the securities of Global Business Information Directory, Inc. because it has not filed any periodic reports since September 9, 1999.

It appears to the Securities and Exchange Commission that there is a lack of current and accurate information concerning the securities of Golf Communities of America, Inc. because it has not filed any periodic reports since the period ended March 31, 1999.

It appears to the Securities and Exchange Commission that there is a lack of current and accurate information concerning the securities of GSL Holdings, Inc. because it has not filed any periodic reports since the period ended June 30, 2004.

It appears to the Securities and Exchange Commission that there is a lack of current and accurate information concerning the securities of Industrial Rubber Innovations, Inc. because it has not filed any periodic reports since the period ended October 31, 1999.

It appears to the Securities and Exchange Commission that there is a lack of current and accurate information concerning the securities of Instapay Systems, Inc. because it has not filed any periodic reports since the period ended September 30, 2004.

It appears to the Securities and Exchange Commission that there is a lack of current and accurate information concerning the securities of Orbit Brands Corp. because it has not filed any periodic reports since December 31, 2004.

It appears to the Securities and Exchange Commission that there is a lack of current and accurate information concerning the securities of Midland, Inc. because it has not filed any periodic reports since the period ended September 30, 1999.

It appears to the Securities and Exchange Commission that there is a lack of current and accurate information concerning the securities of Signal Apparel Co., Inc. because it has not filed any periodic reports since the period ended June 30, 2000.

It appears to the Securities and Exchange Commission that there is a lack of current and accurate information concerning the securities of United Specialties, Inc. (n/k/a WaterColor Holdings, Inc.) because it has not filed any periodic reports since the period ended September 30, 2003.

The Commission is of the opinion that the public interest and the protection of investors require a suspension of trading in the securities of the above-listed companies.

Therefore, it is ordered, pursuant to Section 12(k) of the Securities Exchange Act of 1934, that trading in the above-listed companies, including trading in the debt securities of CHS Electronics, Inc. and Midland, Inc., is suspended for the period from 9:30 a.m. EDT on July 20, 2007, through 11:59 p.m. EDT on August 2, 2007.

By the Commission.
J. Lynn Taylor,
Assistant Secretary.

[FR Doc. 07-3629 Filed 7-20-07; 12:03 pm]

BILLING CODE 8010-01-P